COMMISSION ON CIVIL RIGHTS

Notice of Public Meeting of the Utah Advisory Committee

AGENCY: U.S. Commission on Civil Rights

ACTION: Announcement of meeting.

SUMMARY: Notice is hereby given, pursuant to the provisions of the rules and regulations of the U.S. Commission on Civil Rights (Commission) and the Federal Advisory Committee Act (FACA) that a briefing of the Utah Advisory Committee (Committee) to the Commission will be held from 9:00 a.m.-5:00 p.m. (Mountain Time) Thursday, October 3, 2019. The purpose of the briefing is to receive testimony from diverse stakeholders regarding the gender wage gap in Utah. The Committee will examine the factors that may cause or contribute to the gender wage gap; the impact of the wage gap on individuals on the basis of sex and race; and the impact of federal and state level enforcement efforts aimed to address pay inequity.

DATES: The briefing will be held on Thursday, October 3, 2019 from 9:00 a.m.-5:00 p.m. MT.

ADDRESSES: University of Utah, S.J. Quinney College of Law, Law Room 6613 and 6619 (6th Level) 383 South University Street, Salt Lake City, Utah 84112.

FOR FURTHER INFORMATION CONTACT: Ana Victoria Fortes (DFO) at afortes@usccr.gov or (213) 894-3437.

SUPPLEMENTARY INFORMATION: Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (213) 894-0508, or emailed Ana Victoria Fortes at afortes@usccr.gov. Persons who desire additional information may contact the Regional Programs Unit at (213) 894-3437.

Records and documents discussed during the meeting will be available for public viewing prior to and after the meetings at https://www.facadatabase.gov/FACA/FACAPublicViewCommitteeDetails?id=a10t0000001gzltAAA. Please click on the “Committee Meetings” tab. Records generated from these meetings may also be inspected and reproduced at the Regional Programs Unit, as they become available, both before and after the meetings. Persons interested in the work of this Committee are directed to the Commission's website, https://www.usccr.gov, or may contact the Regional Programs Unit at the above email or street address.

Agenda

I. Welcome

II. Panel Presentations

III. AM Open Comment Session

IV. Panel Presentations

V. PM Open Comment Session

VI. Adjournment

Dated: September 5, 2019.
David Mussatt,
Supervisory Chief, Regional Programs Unit.

[FR Doc. 2019-19586 Filed 9-10-19; 8:45 am]

BILLING CODE P